CORPORATION FOR NATIONAL AND COMMUNITY SERVICE

Proposed Information Collection; Comment Request

AGENCY: Corporation for National and Community Service.

ACTION: Notice.

SUMMARY: The Corporation for National and Community Service (hereinafter the “Corporation”), as part of its continuing effort to reduce paperwork and respondent burden, conducts a pre-clearance consultation program to provide the general public and federal agencies with an opportunity to comment on proposed and/or continuing collections of information in accordance with the Paperwork Reduction Act of 1995 (PRA95) (44 U.S.C. Sec. 3506(c)(2)(A)). This program helps to ensure that requested data can be provided in the desired format, reporting burden (time and financial resources) is minimized, collection instruments are clearly understood, and the impact of collection requirements on respondents can be properly assessed.

Currently, the Corporation is soliciting comments concerning its proposed renewal of its Voucher and Payment Request Form. Copies of the information collection requests can be obtained by contacting the office listed in the ADDRESSES section of this notice.

DATES: Written comments must be submitted to the individual and office listed in the ADDRESSES section by October 9, 2007.

ADDRESSES: You may submit comments, identified by the title of the information collection activity, by any of the following methods:

(1) By mail sent to: Corporation for National and Community Service, National Service Trust; Attention Bruce Kellogg, 1201 New York Avenue, NW., Washington, DC 20525.

(2) By hand delivery or by courier to the Corporation's mailroom at Room 8100 at the mail address given in paragraph (1) above, between 9 a.m. and 4 p.m. Monday through Friday, except Federal holidays.

(3) By fax to: (202) 606-3484, Attention Bruce Kellogg.

(4) Electronically through the Corporation's e-mail address system: bkellogg@cns.gov.

FOR FURTHER INFORMATION CONTACT: Bruce Kellogg, (202) 606-6954, or by e-mail at bkellogg@cns.gov.

SUPPLEMENTARY INFORMATION: The Corporation is particularly interested in comments that:

• Evaluate whether the proposed collection of information is necessary for the proper performance of the functions of the Corporation, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

This form or its electronic equivalent is used by AmeriCorps members to request a payment from their education award accounts, by schools and lenders to verify eligibility for the payments, and by both parties to verify certain legal requirements.

Current Action

The Corporation seeks to renew and revise the current form. The revisions include minor format and textual changes to enhance clarity and ease of use. The application will otherwise be used in the same manner as the existing application. The Corporation also seeks to continue using the current application until the revised application is approved by OMB. The current application is due to expire on October 31, 2007.

Type of Review: Renewal.

Agency: Corporation for National and Community Service.

Title: Voucher and Payment Request Form.

OMB Number: 3045-0014.

Agency Number: None.

Affected Public: Individuals who have completed a term of national service who wish to access their education award accounts.

Total Respondents: 45,000 responses annually, using the paper form.

Frequency: Some members may not ever use the education award and others use it several times a year. Currently, about half of the education award payments are processed electronically. The Corporation expects the use of paper forms to decrease over the next few years.

Average Time Per Response: Total of 5 minutes (one half minute for the AmeriCorps member's section and 4½ minutes for the school or lender).

Estimated Total Burden Hours: 3,750 hours.

Total Burden Cost (capital/startup): None.

Total Burden Cost (operating/maintenance): None.

Comments submitted in response to this notice will be summarized and/or included in the request for Office of Management and Budget approval of the information collection request; they will also become a matter of public record.

Dated: August 6, 2007.
Cynthia Wooten,
Manager, National Service Trust.

[FR Doc. E7-15583 Filed 8-9-07; 8:45 am]

BILLING CODE 6050-$$-P